DEPARTMENT OF THE TREASURY

Internal Revenue Service

26 CFR Part 1

[TD 9505]

RIN 1545-BG36

Hybrid Retirement Plans

Correction

In rule document 2010-25941 beginning on page 64123 in the issue of Tuesday, October 19, 2010, make the following correction:

§ 1.411(a)(13)-1 [Corrected]

On page 64137, in § 1.411(a)(13)-1,in the first column, in paragraph (e)(1)(iii)(E), in the fourth and fifth lines, “section 411(a)(13)(B) but would otherwise apply” should read “section 411(a)(13)(B) would otherwise apply”.

[FR Doc. C1-2010-25941 Filed 1-24-11; 8:45 am]

BILLING CODE 1505-01-D